DEPARTMENT OF ENERGY

Federal Energy Regulatory Commission

[Project No. 2232-393]

Duke Energy Corporation; Notice of Availability of Draft Environmental Assessment

June 19, 2000.

A draft environmental assessment (DEA) is available for public review. The DEA analyzes the environmental impacts of proposed revisions to the shoreline classification maps for the Catawba-Wateree Project Shoreline Management Plan (SMP). The licensee for the project is Duke Energy Corporation (Duke). The maps address the allowable uses of 1,635 miles of shoreline for the 11 project reservoirs located in North and South Carolina. The maps are supported by results of Duke's Shallow Water Fish Habitat Study (SWFHS). Also, addressed in this DEA is the Shoreline Stabilization Technique Selection Process (SSTSP). The proposed revisions to the shoreline classification maps are an integral part of the SMP for the project.

On the basis of this independent environmental assessment, approval of the revised reclassification maps would not constitute a major federal action that would significantly affect the quality of the human environment.

The DEA was written by Commission staff in the Office of Energy Projects, Federal Energy Regulatory Commission. Copies of the DEA can be viewed on the web at www.ferc.fed.us/online/rims.htm. Call (202) 208-2222 for assistance. Copies are also available for inspection and reproduction at the Commission's Public Reference Room located at 888 First Street, NE, Room 2A, Washington, DC 20426, or by calling (202) 208-1371.

Anyone may file comments on the DEA. The public, federal and state resource agencies are encouraged to provide comments. All comments must be filed within 30 days of the date of this notice shown above. Send an original and eight copies of all comments marked with the project number P-2232-393 to : The Secretary, Federal Energy Regulatory Commission, 888 First Street, NE., Washington, DC 20426. If you have any questions regarding this notice, please call Brian Romanek at (202) 219-3076.

David P. Boergers,
Secretary.

[FR Doc. 00-15885 Filed 6-22-00; 8:45 am]

BILLING CODE 6717-01-M